DEPARTMENT OF COMMERCE

National Oceanic and Atmospheric Administration

RIN 0648-XX62

Pacific Fishery Management Council; Public Meeting

AGENCY: National Marine Fisheries Service (NMFS), National Oceanic and Atmospheric Administration (NOAA), Commerce.

ACTION: Notice of a public meeting.

SUMMARY: The Pacific Fishery Management Council's (Pacific Council) Salmon Technical Team (STT) and Habitat Committee (HC) sub-committees will hold a joint meeting to develop a draft assessment of the factors triggering an overfishing concern for SRFC. The report will include analyses of fishing and non-fishing related factors, and recommendations for stock rebuilding. This meeting of the STT and HC sub-committees is open to the public.

DATES: The meeting will be held Tuesday, August 31, 2010, from 8:30 a.m. to 4:30 p.m.

ADDRESSES: The meeting will be held at the California Department of Fish and Game, 474 Aviation Blvd., Suite 130, Santa Rosa, CA 95403.

FOR FURTHER INFORMATION CONTACT: Mr. Chuck Tracy, Salmon Management Staff Officer, Pacific Council; telephone: (503) 820-2280.

SUPPLEMENTARY INFORMATION: The purpose of the meeting is to update a report assessing the cause of SRFC failing to meet the 122,000 adult spawner conservation objective, and the implication to the long-term productivity of the stock not meeting that objective, for three consecutive years.

When a salmon stock managed by the Pacific Council fails to meet its conservation objective for three consecutive years, an overfishing concern is triggered according to the terms of the Pacific Coast Salmon Plan (Salmon Plan). The Salmon Plan requires the Pacific Council to direct its STT and HC to undertake a review of the status of the stock in question and determine if excessive harvest was responsible for the shortfall, if other factors were involved, and the significance of the stock depression with regard to achieving maximum sustainable yield. The assessment is scheduled to be completed in time to report to the Pacific Council at its March 2011 meeting.

Although non-emergency issues not contained in the meeting agenda may come before the subcommittees for discussion, those issues may not be the subject of formal action during these meetings. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: July 14, 2010.
William D. Chappell,
Acting Director, Office of Sustainable Fisheries, National Marine Fisheries Service.

[FR Doc. 2010-17583 Filed 7-19-10; 8:45 am]

BILLING CODE 3510-22-S